ENVIRONMENTAL PROTECTION AGENCY

[FRL-8283-1]

Notice of Meeting of the EPA's Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held March 13-15th, 2007 at RESOLVE, Washington, DC. The CHPAC was created to advise the Environmental Protection Agency on science, regulations, and other issues relating to children's environmental health.

DATES: Task Groups will meet on Tuesday March 13th and the CHPAC Plenary will meet on Wednesday March 14th and Thursday March 15th, 2007 at RESOLVE.

ADDRESSES: RESOLVE, 1255 23rd Street, NW., Suite 275 Washington, DC.

FOR FURTHER INFORMATION CONTACT: Carolyn Hubbard, Office of Children's Health Protection and Environmental Education, USEPA, MC 1107A, 1200 Pennsylvania Avenue, NW., Washington, DC 20460, (202) 564-2189, hubbard.carolyn@epa.gov.

SUPPLEMENTARY INFORMATION: The meetings of the CHPAC are open to the public. Task Group meetings will take place on Tuesday March 13th, 2007 at RESOLVE from 8:30 a.m. to 5:30 p.m. The CHPAC plenary will meet on Wednesday, March 14th from 8:30 a.m. to 5:45 p.m. and Thursday March 15th from 8:30 a.m. to 12:30 p.m. Agenda items include discussion and next steps from the Emerging Chemicals of Concern, NAAQS for Lead and Ozone, and 2007 Anniversary Task Groups and a presentation on the NIEHS January 2007 workshop. Draft agenda attached.

Access and Accommodations: For information on access or services for individuals with disabilities, please contact Carolyn Hubbard at 202-564-2189 or hubbard.carolyn@epa.gov. To request accommodation of a disability, please contact Carolyn Hubbard preferably at least 10 days prior to the meeting, to give EPA as much time as possible to process your request.

Dated: February 27, 2007.
Carolyn Hubbard,
Designated Federal Official.

U.S Environmental Protection Agency

Children's Health Protection Advisory Committee

RESOLVE 1255 23rd Street, NW., Suite 275, Washington, DC 20037.

Draft Agenda

Tuesday, March 13, 2007

Task Group Meetings

8:30-5:30 Emerging Chemicals of Concern Task Group (ECOC)

12:15-1:30 Lunch (on your own)

1:30-5:30 Next Decade: 10 Year Anniversary of the Executive Order Task Group

1:30-5:30 National Ambient Air Quality Standard (NAAQS) for Ozone and Lead Task Group

Wednesday, March 14, 2007

CHPAC Plenary Session

8:30-9:00 Continental Breakfast and Gathering

9:00-9:15 Welcome, Introductions, Review Meeting Agenda

9:15-9:30 Highlights of Recent OCHPEE Activities

9:30-10:30 Report on NIEHS January Meeting and Vision for Next Decade of Children's Environmental Health

10:30-10:45 Break

10:45-12:00 10 Year Anniversary Task Group Update and Comment Letter

12:00-1:30 Lunch (on your own)

1:30-3:00 ECOC Task Group Update

3:00-3:15 Break

3:15-5:00 National Ambient Air Quality Standard (NAAQS) for Lead and Ozone Update

5:00-5:45 Public Comment

5:45 Adjourn for the Day

Thursday, March 15, 2007

CHPAC Plenary Session continued

8:30-9:00 Coffee

9:00-10:00 TBD

10:00-10:15 Break

10:15-11:15 10 Year Anniversary Recommendations

11:15-12:15 NAAQS for Ozone Recommendations

12:15-12:30 Wrap Up/Next Steps

12:30 Adjourn

[FR Doc. E7-3682 Filed 3-1-07; 8:45 am]

BILLING CODE 6560-50-P